ENVIRONMENTAL PROTECTION AGENCY

[FRL-6878-6]

Stakeholder Comment on Preliminary National Enforcement and Compliance Assurance Priorities for Fiscal Years 2002 and 2003

AGENCY: Environmental Protection Agency.

ACTION: Solicitation of recommendations and comments.

SUMMARY: This Notice is a Federal Agency request for the public to comment and provide recommendations on biennial national enforcement and compliance assurance priorities to be addressed for fiscal years 2002 and 2003. This Notice expands Agency efforts to establish national enforcement and compliance assurance priorities by seeking to engage a broader group of stakeholders to identify those environmental problems that should be considered in selecting a focus for future Federal enforcement and compliance resources. The information submitted by commentors will be considered during the priority identification process. Final priority selections will be incorporated into the EPA's Office of Enforcement and Compliance Assurance Memorandum of Agreement Guidance (which provides national program direction for all EPA Regional offices). These priorities will also affect implementation of the enforcement and compliance goals and objectives outlined in the EPA Strategic Plan, as mandated under the Government Performance and Results Act.

DATES: The agency must receive comments and recommendations on or before October 30, 2000.

ADDRESSES: Submit all electronic comments and recommendations to docket.oeca@epa.gov. Please reference Docket Number EC-2000-006 in the submission. (Comments may be submitted on disk in WordPerfect 8.0 or earlier versions)

Written comments can be mailed to: Enforcement & Compliance Docket and Information Center (2201A). Docket Number EC-2000-006. Office of Enforcement and Compliance Assurance, U.S. Environmental Protection Agency, 401 M Street, SW., Washington, DC 20460.

Comments may be delivered in person to: Enforcement & Compliance Docket and Information Center, U.S. Environmental Protection Agency, Rm 4033, Ariel Rios Bldg., 1200 Pennsylvania Avenue, NW., Washington, DC.

FOR FURTHER INFORMATION CONTACT: Frederick Stiehl, Director, Enforcement Planning, Targeting and Data Division; Voice: (202) 564-2290, Fax:(202) 564-0030.

SUPPLEMENTARY INFORMATION:

Contents

A. Background

B. Projected Process Time Frames

C. Review Information

A. Background

The Office of Enforcement and Compliance Assurance (OECA) negotiates a Memorandum of Agreement (MOA) with each of the Agency's ten Regional offices. The MOA guidance, sent out by OECA, establishes national enforcement and compliance assurance priorities and sets short term (two year) program direction. The MOA guidance provides the basis for the individual agreements negotiated between OECA and each Region. These agreements describe Region-specific implementation of the national and local enforcement and compliance priorities as the Agency works to collectively meet its long term goals set forth in the EPA Strategic Plan. The intent of this FR Notice is to solicit stakeholder input during the selection process of potential FY 2002/2003 MOA priorities. Earlier this spring, stakeholders, EPA Regions, States, and Tribes, were asked to comment on current national enforcement and compliance priorities and suggest any changes or potential new priorities for fiscal years 2002 and 2003. The Office of Enforcement and Compliance Assurance analyzed the many excellent comments received thus far using the following criteria:

(a) Risk Management: In what specific areas can the Federal enforcement and compliance assurance programs make a significant positive impact on human health or the environment? What are the known or estimated public health or environmental risks?

(b) Noncompliance: Are there particular economic or industrial sectors, geographic areas or facility operations where regulated entities have demonstrated serious patterns of noncompliance?

(c) EPA Responsibility: What identified national problem areas or programs are better addressed through EPA's Federal capability in enforcement or compliance assistance?

Based on the analysis of all proposals received to date and ongoing priority work, the Agency has drafted a preliminary list of suggested FY 2002/2003 priorities, as shown below. While no final decisions have been made, this preliminary list reflects input from field personnel, state and local partners, as well as EPA analyses and discussions. Although not all areas suggested appear on the preliminary list of national candidates, the opportunity certainly exists for these additional candidates to be adopted as Regional, State, or local level priorities. In considering the following list, please bear in mind that EPA remains committed to identifying a limited number of national priorities so as to provide flexibility to address some of these other suggestions. In addition, some of the current FY 2000/2001 priority areas may be carried forward and/or refined in FY 2002/2003 to complete unfinished work. The following list is a starting point for internal discussion and eventual narrowing of the list by EPA management. This list is divided into the current FY 2000/2001 priorities and suggested new areas. While the tables below include a brief description of the priority, greater detail and background on each proposed priority can be found at the DOCKET site identified in the address section of this Federal Register.

I. Current Priorities
Priority | Nature of concern
Clean Water Act/Wet Weather | Run-off from wet weather events such as overflows from Combined Sewers, Sanitary Sewers, or Concentrated Animal Feeding Operation (CAFO) discharges. Overflows contain bacteria and other pathogens which cause illnesses and lead to impaired waters, including beach and shellfish bed closures.
Safe Drinking Water Act/Microbial Rules | Ensuring compliance with microbial regulations and continued Federal support of the President's Clean Water Action Plan. Adverse health effects of microbiological contamination include gastrointestinal distress, fever, pneumonia, dehydration (which can be life threatening), or death.
Clean Air Act/New Source Review/Prevention Of Significant Deterioration | Ensuring that New Source Review (NSR) requirements of the Clean Air Act (CAA) are implemented. Failure to comply with NSR and/or PSD requirements results in inadequate control of emissions, thereby contributing thousands of unaccounted tons of pollution each year, particularly of Nitrogen Oxides, Volatile Organic Compounds, and Particulate Matter.
Clean Air Act/Air Toxics | Ensuring reduction of public exposure to toxic air emissions through the adoption and implementation of Maximum Achievable Control Technology (MACT) standards.
Resource Conservation and Recovery Act/Permit Evaders | Prevent un-permitted waste handling and management operations.
Petroleum Refinery Sector | Reducing air emissions and eliminate un-permitted releases from an estimated 162 operable domestic refineries spread across the country.
Metal Services (Electroplating and Coating Sector) | Addressing Metal service facilities which generate hazardous materials, such as cadmium, chromium, cyanide, lead, mercury and selenium that are not in compliance and have not applied for discharge permits.

II. Suggested New Areas
Title | Nature of concern
Fuels Management | Covers every aspect of the fuels handling process, including, but not limited to, oil production, petroleum refining, fuels storage, transportation, as well as distribution of fuels from pipelines and underground storage tanks; releases can result in contamination to the air, soil, and water.
Federal Facilities | Operations at Federal facilities effect air, soil, groundwater, and surface water. Some of the more common wastes are generated by hospital operations, laboratory operations, and treatment plant operations.
Cruise Ships | A growing concern is the discharges from cruise ships, which include large volumes of gray water, sewage, oily bilge water (which may contain solid waste), solid waste (plastics and paper) and various amounts of hazardous wastes, such as photo chemicals, dry cleaning fluids, and paint.
Automotive Salvaging | A pervasive environmental problem due primarily to pollutants such as waste oils, gas, mercury, PCBs and lead, this priority includes salvage yards, shredder residue and dismantlers. Auto yards are located throughout the United States, many of which are small businesses
Mining | Several aspects/types of mining have been cited as significant cross-media problems: abandoned mines, coal mining tail sites, and mineral mining operations. Human health and environmental problems have been linked with acid leaching, air pollution, acid drainage, and refuse piles.
Hazardous Waste Transport/Storage | Particular concern has been focused around the rising number of “temporary” storage facilities that lack permits and the converse problem of “old” storage becoming a Superfund concern, with hazardous wastes leaching onto land and into water.
Pesticides | Increasing number of reports of misuse, misapplication, and mislabeling of pesticide products (in particular, indoor-use only products, and worker protection regulated products) which lead to increased exposure risk to human health and the environment. Adverse impacts can include pesticide poisoning or groundwater contamination.
Air Emissions/PM-10 | Particulate matter has been linked to health and respiratory problems, particularly among children and the elderly. Excessive emissions of particulate matter are widespread, particularly in current non-attainment areas.

At this time we are inviting comment on this preliminary list. Comments received will provide the Agency with a foundation from which to collectively consider on-going priority work and emerging areas as we develop a limited number of recommended FY 2002/2003 priorities. When submitting responses to this Notice, commentors should rank which of the areas listed above should be a top concern for national focus, as well as suggesting others not included on the current list. If additional problem areas are identified, the commentor should provide supporting information relating to the previously listed criteria. Again, suggested priority areas which are not chosen may be candidates for individual Regional or State attention and/or continued investigation. For example, information obtained from this Notice will be helpful to the Agency as it follows up on the recommendations from the Innovation Task Force report (this task force was established by the National Partnership for Reinventing Government) to consider the exclusive or partial use of compliance assistance as a tool for addressing environmental risk and/or patterns of noncompliance.

B. Projected Process Time Frames

After receiving stakeholder responses to this FR priority notice, EPA will complete analysis of proposed priorities and discuss the candidates at a November 2000 enforcement and compliance assurance priorities meeting. Recommendations from this meeting will be forwarded to EPA senior management for discussion. In January 2001, EPA will issue the draft Office of Enforcement and Compliance Assurance FY 2002/2003 Memorandum of Agreement Guidance to Regions, States and stakeholders for final review. This draft guidance will include the proposed Agency enforcement and compliance assurance national priorities. The final MOA guidance including final priorities will be issued in April 2001.

C. Review Information

Persons interested in obtaining for review, further background information regarding current or proposed FY 2002-2003 National Enforcement and Compliance Assurance Priorities may submit a request for hard copy or electronic version of information to: docket.oeca@epa.gov., or contact the docket clerk at 202-564-2614. Please reference Docket Number EC-2000-006 in the request. A reasonable fee may be charged by EPA for copying docket materials.

Dated: September 21, 2000.
Sylvia K. Lowrance,
Principal Deputy Assistant Administrator, Office of Enforcement and Compliance Assurance.

[FR Doc. 00-24791 Filed 9-27-00; 8:45 am]

BILLING CODE 6560-50-P